DEPARTMENT OF THE INTERIOR

Bureau of Land Management

[17X L1109AF LLUTC03000.L16100000.DR0000.LXSS004J0000 24-1A]

Notice of Availability of the Record of Decision and the Approved Resource Management Plans for the Beaver Dam Wash and Red Cliffs National Conservation Areas; and Approved Amendment to the St. George Field Office Resource Management Plan in Washington County, Utah

AGENCY: Bureau of Land Management, Interior.

ACTION: Notice.

SUMMARY: The Bureau of Land Management (BLM) announces the availability of the Records of Decision (RODs) and the Approved Resource Management Plans (RMPs) for the Beaver Dam Wash and Red Cliffs National Conservation Areas (NCA RMPs); and Approved Amendment to the St. George Field Office RMP (RMP Amendment) located in Washington County, Utah. The Utah State Director signed the RODs on December 21, 2016, which constitutes the final decision of the BLM and makes the Approved NCA RMPs and RMP Amendment effective.

ADDRESSES: Copies of the RODs and Approved NCA RMPs/RMP Amendment are available upon request from Interagency Public Information Center, 345 East Riverside Drive, St. George, UT 84790, or via the Internet at http://bit.ly/2fhtN3P. Copies of the RODs and Approved NCA RMPs/RMP Amendment are available for public inspection at the BLM Utah State Office Public Room, 440 West 200 South, Suite 500, Salt Lake City, UT 84101, during normal business hours (8 a.m. to 4:30 p.m.), Monday through Friday, except holidays.

FOR FURTHER INFORMATION CONTACT: Keith Rigtrup, RMP Planner, telephone 435-865-3000; address 345 East Riverside Drive, St. George, UT 84790; email krigtrup@blm.gov. Persons who use a telecommunications device for the deaf may call the Federal Relay Service (FRS) at 1-800-877-8339 to contact the above individual during normal business hours. The FRS is available 24 hours a day, 7 days a week, to leave a message or question with the above individual. You will receive a reply during normal business hours.

SUPPLEMENTARY INFORMATION: The Approved NCA RMPs provide comprehensive management plans for the long-term conservation and management of the Beaver Dam Wash NCA (63,480 acres of public land) and the Red Cliffs NCA (44,859 acres of public land). The NCA RMPs prescribe appropriate uses and conservation measures and are consistent with the planning process and other provisions directed by the Omnibus Public Land Management Act of 2009 (Pub. L. 111-11, at Title 1, Subtitle O, hereinafter OPLMA). The need to amend the St. George Field Office RMP (approved in 1999) is also derived from OPLMA. Section 1977(b)(1) of OPLMA, directed the BLM to develop a comprehensive travel management plan for public lands in Washington County. The 1999 St. George Field Office RMP needed to be amended to modify certain existing off-highway vehicle (OHV) area designations (open, limited or closed) before this comprehensive travel management plan could be developed. The decisions contained in the Approved NCA RMPs and RMP Amendment do not apply to private and State lands within the boundaries of the NCAs or the St. George Field Office planning area.

The Approved NCA RMPs and RMP Amendment were developed from the Proposed NCA RMPs and RMP Amendment that were released, along with the Final Environmental Impact Statement (EIS), on September 2, 2016. The Proposed RMPs and RMP Amendment combined components of the four alternatives that were presented in the Draft NCA RMPs and RMP Amendment, and associated Draft EIS, released for public review on July 17, 2015. The NCA RMPs address the long-term management of public land resources and land uses, while fulfilling the conservation purpose of the NCAs for which the public lands received Congressional designation through OPLMA.

There were 41 protests of the Proposed NCA RMPs and RMP Amendment. All valid protests were resolved during the BLM Director's Plan Protest Resolution Process, prior to the signing of the RODs. The Governor's Consistency Review, which also took place after the release of the proposed plans, identified three concerns. The BLM provided the Utah Governor with a detailed response and made editorial modifications in preparing the Approved NCA RMPs and RMP Amendment to address issues raised by the Governor. The NCA RMPs are the culmination of a significant effort by the BLM and interested members of the public, community stakeholders, and other local, state and federal partners to provide long-term management direction for the first NCAs designated by Congress in Utah.

Certain decisions in the Approved NCA RMPs are implementation decisions and are appealable to the Interior Board of Land Appeals. These implementation level decisions are noted in the RODs for the Beaver Dam Wash and Red Cliffs NCAs (under livestock grazing and recreation) and are appealable under 43 CFR part 4. Any party adversely affected by the implementation level decisions may appeal within 30 days of publication of this Notice of Availability in accordance with the provisions of 43 CFR, part 4, subpart E. The appeal should state the specific numbered decision and the rationale for the appeal. Within 30 days of the posting of this decision (“date of service”), a Notice of Appeal must be filed in writing to: State Director-BLM Utah State Office 440 West 200 South, Suite 500 Salt Lake City, Utah 84101-1345. At the same time, a copy of the Notice of Appeal must also be sent to: Regional Solicitor—U.S. Department of the Interior, 6201 Federal Building, 1235 South State Street, Salt Lake City, Utah 84138-1180.

Please consult the appropriate regulations (43 CFR, part 4, subpart E) for further appeal requirements.

Authority: 40 CFR 1506.6.

Edwin L. Roberson,
State Director.

[FR Doc. 2016-30755 Filed 12-20-16; 8:45 am]

BILLING CODE 4310-DQ-P